DEPARTMENT OF THE INTERIOR

National Park Service

[NPS-WASO-NAGPRA-19755; PPWOCRADN0-PCU00RP14.R50000]

Notice of Intent To Repatriate a Cultural Item: Los Angeles County Museum of Natural History, Los Angeles, CA

AGENCY: National Park Service, Interior.

ACTION: Notice.

SUMMARY: The Los Angeles County Museum of Natural History, in consultation with the appropriate Indian tribes, has determined that the cultural item listed in this notice meets the definitions of sacred object and object of cultural patrimony. Lineal descendants or representatives of any Indian tribe not identified in this notice that wish to claim this cultural item should submit a written request to the Los Angeles County Museum of Natural History. If no additional claimants come forward, transfer of control of the cultural item to the lineal descendants, Indian tribes, or Native Hawaiian organizations stated in this notice may proceed.

DATES: Lineal descendants or representatives of any Indian tribe not identified in this notice that wish to claim the cultural item should submit a written request with information in support of the claim to the Los Angeles County Museum of Natural History Foundation at the address in this notice by January 11, 2016.

ADDRESSES: James R. Gilson, Vice President and General Counsel, Los Angeles County Museum of Natural History Foundation, 900 Exposition Boulevard, Los Angeles, CA 90007, telephone (213) 763-3305, email jgilson@nhm.org.

SUPPLEMENTARY INFORMATION: Notice is here given in accordance with the Native American Graves Protection and Repatriation Act (NAGPRA), 25 U.S.C. 3005 of the intent to repatriate a cultural item under the control of the Los Angeles County Museum of Natural History that meets the definitions of a sacred object and of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

Between 1895 and 1915, a headdress made from cotton cord, red woolen fabric, and feathers came into the possession of Francis (Frank) Ammann, Sr., who was a baker and operated a dry goods store in Needles, CA. Upon his death, the headdress passed to his son, Dr. F.X. Amman, Jr., who donated the headdress to the Los Angeles County Museum of Natural History in 1934. In 2002, the Los Angeles County Museum of Natural History lent the headdress to the Twenty-Nine Palms Band of Mission Indians of California for exhibition, where it remains today.

Based on research and consultation with the Twenty-Nine Palms Band of Mission Indians of California, and other Chemehuevi elders and scholars of Chemehuevi culture and history, the Los Angeles County Museum of Natural History has determined that the headdress is possibly the most complete example currently known of a Kaitcoxo. Kaitcoxo headdresses are important objects worn in Chemehuevi traditional religious and tribal ceremonies. The Los Angeles County Museum of Natural History also has determined that, in accordance with traditional Chemehuevi practice, an object of this importance to the group as a whole could not have been alienated by any individual. The research also leads the Los Angeles County Museum of Natural History to believe that a preponderance of the evidence indicates that this Kaitcoxo came into the hands of Mr. Amman, Sr., from one or more Chemehuevi persons, who were trading with Mr. Amman, Sr., between 1895 and 1915 while he was operating his bakery and store in Needles, CA. For the Chemehuevi people, this was a period of dislocation, successive moves, and removal to reservations.

The Los Angeles County Museum of Natural History's consultations included communication with the three Federally-recognized Chemehuevi tribes: Chemehuevi Indian Tribe of the Chemehuevi Reservation, California; Colorado River Indian Tribes of the Colorado River Indian Reservation, Arizona and California; and Twenty-Nine Palms Band of Mission Indians of California. On July 31, 2015, the Los Angeles County Museum of Natural History received a letter dated March 31, 2015, and signed by the tribal chairmen of all three Federally-recognized Chemehuevi tribes stating the three tribes “without exception, enter into this agreement with full consensus, that it is our stated and formal request that the Chemehuevi Headdress . . . be repatriated . . . to the Twenty-Nine Palms Band of Mission Indians.”

Determinations Made by the Los Angeles County Museum of Natural History

Officials of the Los Angeles County Museum of Natural History have determined that:

• Pursuant to 25 U.S.C. 3001(3)(C), the single Kaitcoxo described above is a specific ceremonial object needed by traditional Native American religious leaders for the practice of traditional Native American religions by their present-day adherents.

• In addition, pursuant to 25 U.S.C. 3001(3)(D), the single Kaitcoxo described above has ongoing historical, traditional, or cultural importance central to the Native American group or culture itself, rather than property owned by an individual.

• Pursuant to 25 U.S.C. 3001(2), there is a relationship of shared group identity that can be reasonably traced between the single Kaitcoxo and the Twenty-Nine Palms Band of Mission Indians of California.

Additional Requestors and Disposition

Lineal descendants or representatives of any Indian tribe not identified in this notice that wish to claim this cultural item should submit a written request with information in support of the claim to James R. Gilson, Vice President and General Counsel, Los Angeles County Museum of Natural History Foundation, 900 Exposition Boulevard, Los Angeles, CA 90007, telephone (213) 763-3305, email jgilson@nhm.org, by January 11, 2016. After that date, if no additional claimants have come forward, transfer of control of the single Kaitcoxo to the Twenty-Nine Palms Band of Mission Indians of California may proceed.

The Los Angeles County Museum of Natural History is responsible for notifying the following Federally-recognized tribes that this notice has been published: Chemehuevi Indian Tribe of the Chemehuevi Reservation, California; Colorado River Indian Tribes of the Colorado River Indian Reservation, Arizona and California; and the Twenty-Nine Palms Band of Mission Indians of California.

Dated: November 6, 2015.
Melanie O'Brien,
Manager, National NAGPRA Program.

[FR Doc. 2015-31308 Filed 12-10-15; 8:45 am]

BILLING CODE 4312-50-P